Proclamation 8248 of April 29, 2008

Jewish American Heritage Month, 2008

By the President of the United States of America

A Proclamation

Jewish American Heritage Month is an opportunity to celebrate the history, culture, and faith of Jewish Americans and their contributions to our Nation.

The story of the Jewish people in America is the story of America itself. When the first Jewish settlers arrived on our shores hundreds of years ago, they saw a land of promise and liberty. With hard work and determination, these individuals helped build our country and strengthen our values. Their commitment to religious freedom and their belief in democracy have enriched our society and helped make our country a beacon of hope for all.

Many Jewish Americans have served in our military with valor and distinction in times of war and peace. We pay special tribute to all those who stepped forward when our country needed them most. These American heroes confronted grave dangers to protect our Nation.

During Jewish American Heritage Month and throughout the year, we honor Jewish Americans who played an integral role in shaping the cultural fabric of our Nation. Their spirit and talents have helped America succeed and prosper, and their efforts continue to remind us of the many blessings of this great country.

NOW, THEREFORE, I, GEORGE W. BUSH, President of the United States of America, by virtue of the authority vested in me by the Constitution and laws of the United States, do hereby proclaim May 2008 as Jewish American Heritage Month. I call upon all Americans to observe this month with appropriate programs and activities to honor Jewish Americans across the country.

IN WITNESS WHEREOF, I have hereunto set my hand this twenty-ninth day of April, in the year of our Lord two thousand eight, and of the Independence of the United States of America the two hundred and thirty-second.

[FR Doc. 08-1209

Filed 4-30-08; 11:26 am]

Billing code 3195-01-P